INTERNATIONAL TRADE COMMISSION

[Investigation Nos. 701-TA-465 and 731-TA-1161 (Preliminary)]

Certain Steel Grating From China

Determinations

On the basis of the record ¹ developed in the subject investigations, the United States International Trade Commission (Commission) determines, pursuant to section 703(a) and 733(a) of the Tariff Act of 1930 (19 U.S.C. 1671b(a) and 19 U.S.C. 1673b(a)) (the Act), that there is a reasonable indication that an industry in the United States is threatened with material injury by reason of imports from China of certain steel grating, provided for in subheading 7308.90.70 of the Harmonized Tariff Schedule of the United States, that is alleged to be subsidized by the Government of China and sold in the United States at less than fair value (LTFV).

¹ The record is defined in sec. 207.2(f) of the Commission's Rules of Practice and Procedure (19 CFR 207.2(f)).

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in these investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On May 29, 2009, a petition was filed with the Commission and Commerce by Alabama Metal Industries, Corp., of Birmingham, AL and Fisher & Ludlow, Inc., of Wexford, PA, alleging that an industry in the United States is materially injured or threatened with material injury by reason of subsidized and less-than-fair-value imports of certain steel grating from China. Accordingly, effective May 29, 2009, the Commission instituted countervailing duty investigation No. 701-TA-465 (Preliminary) and antidumping duty investigation No. 731-TA-1161 (Preliminary).

Notice of the institution of the Commission's investigations and of a public conference to be held in connection therewith was given by posting copies of the notice in the Office of the Secretary, U.S. International Trade Commission, Washington, DC, and by publishing the notice in the Federal Register of June 5, 2009 (74 FR 27049). The conference was held in Washington, DC, on June 19, 2009, and all persons who requested the opportunity were permitted to appear in person or by counsel.

The Commission transmitted its determinations in these investigations to the Secretary of Commerce on July 13, 2009. The views of the Commission are contained in USITC Publication 4087 (July 2009), entitled Certain Steel Grating From China: Investigation Nos. 701-TA-465 and 731-TA-1161 (Preliminary).

By order of the Commission.
Issued: July 15, 2009.
Marilyn R. Abbott,
Secretary to the Commission.

[FR Doc. E9-17142 Filed 7-17-09; 8:45 am]

BILLING CODE 7020-02-P